DEPARTMENT OF THE TREASURY

Agency Information Collection Activities; Submission for OMB Review; Comment Request; Multiple Fiscal Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 21, 2020 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Bureau of the Fiscal Service (BFS)

1. Title: Direct Deposit Sign-Up Forms.

OMB Control Number: 1530-0006.

Type of Review: Extension without change of a currently approved collection.

Description: The Direct Deposit Sign-Up Form is used by recipients to authorize the deposit of Federal payments into their accounts at financial institutions. The information is used to route the Direct Deposit payment to the correct account at the correct financial institution. It identifies persons who have executed the form.

Form: FS Form 1200, FS Form 1201S, Form 1200 Online, FS Form 1200, FS Form 1201L, SF-1199A, FS Form 1200 VADE.

Affected Public: Individuals and households.

Estimated Number of Respondents: 406,715.

Frequency of Response: Once.

Estimated Total Number of Annual Responses: 406,715.

Estimated Time per Response: 10 minutes.

Estimated Total Annual Burden Hours: 67,786.

2. Title: Management of Federal Agency Disbursements.

OMB Control Number: 1530-0016.

Type of Review: Extension without change of a currently approved collection.

Description: This regulation requires that most Federal payments be made by Electronic Funds Transfer (EFT); sets forth waiver requirements; and provides for a low-cost Treasury-designated account to individuals at a financial institution that offers such accounts.

Form: None.

Affected Public: Businesses or other for-profits.

Estimated Number of Respondents: 1,300.

Frequency of Response: Once.

Estimated Total Number of Annual Responses: 1,300.

Estimated Time per Response: 15 minutes.

Estimated Total Annual Burden Hours: 325.

3. Title: Electronic Funds Transfer (EFT) Market Research Study.

OMB Control Number: 1530-0022.

Type of Review: Extension without change of a currently approved collection.

Description: This is a generic clearance to conduct customer satisfaction surveys. The need for these surveys arises from Congressional directive that accompanied legislation enacted in 1996, as part of the Debt Collection Improvement Act (Pub. L. 104-134), expanding the scope of check recipients required to use direct deposit to receive Federal benefit payments (see 31 U.S.C. 3332). Congress directed Treasury to “study the socioeconomic and demographic characteristics of those who currently do not have Direct Deposit and determine how best to increase usage among all groups.”

Form: None.

Affected Public: Individuals and households.

Estimated Number of Respondents: 19,500.

Frequency of Response: Once.

Estimated Total Number of Annual Responses: 19,500.

Estimated Time per Response: 16 minutes.

Estimated Total Annual Burden Hours: 5,200.

Authority: 44 U.S.C. 3501 et seq.

Dated: December 16, 2019.
Spencer W. Clark,
Treasury PRA Clearance Officer.

[FR Doc. 2019-27446 Filed 12-19-19; 8:45 am]

BILLING CODE 4810-AS-P